NATIONAL AERONAUTICS AND SPACE ADMINISTRATION

[Notice: (12-011)]

NASA Advisory Council; Information Technology Infrastructure Committee; Meeting.

AGENCY: National Aeronautics and Space Administration.

ACTION: Notice of meeting.

SUMMARY: In accordance with the Federal Advisory Committee Act, Public Law 92-463, as amended, the National Aeronautics and Space Administration announces a meeting of the Information Technology Infrastructure Committee of the NASA Advisory Council.

DATES: Wednesday, March 7, 2012, 8:30 a.m.-12 p.m., local time. Meet-Me-Number: 1-866 818-0788, Participant—9453583.

ADDRESSES: NASA Headquarters, 300 E. Street SW., Washington, DC 20546, Room MIC 3B.

FOR FURTHER INFORMATION CONTACT: Ms. Karen Harper, Executive Secretary for the Information Technology Infrastructure Committee, National Aeronautics and Space Administration, Headquarters, Washington, DC 20546, (202) 358-1807.

SUPPLEMENTARY INFORMATION: The topics of discussion for the meeting are the following:

• Proposed NAC Recommendations from the Information Technology Infrastructure Committee

• Future mission data needs

The meeting will be open to the public up to the seating capacity of the room. It is imperative that these meetings be held on this date to accommodate the scheduling priorities of the key participants. Attendees will be required to comply with NASA security procedures, including the presentation of a valid picture ID to Security before access to NASA Headquarters. Foreign Nationals attending this meeting will be required to provide a copy of their passport and visa in addition to providing the following information no later than February 24, 2012, prior to the meeting: full name; gender; date/place of birth; citizenship; visa information (number, type, expiration date); passport information (number, country, expiration date); employer/affiliation information (name of institution, address, country, telephone); title/position of attendee; and home address to Ms. Karen Harper via email at Karen.l.harper@nasa.gov or by telephone at (202) 358-1807. U.S. citizens and green card holders are requested to submit their name and affiliation 3 working days prior to the meeting. U.S. citizens and green card holders are requested to submit their name and affiliation 3 working days prior to the meeting to Karen Harper. Persons with disabilities who require assistance should indicate this.

Patricia D. Rausch,
Advisory Committee Management Officer, National Aeronautics and Space Administration.

[FR Doc. 2012-3025 Filed 2-8-12; 8:45 am]

BILLING CODE 7510-13-P